ENVIRONMENTAL PROTECTION AGENCY

[EPA-HQ-OW-2008-0357; FRL-8742-2]

Agency Information Collection Activities; Submission to OMB for Review and Approval; Comment Request; Reporting Requirements for BEACH Act Grants (Renewal), EPA ICR Number 2048.03, OMB Control Number 2040-0244

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 19, 2008.

ADDRESSES: Submit your comments, referencing Docket ID number EPA-HQ-OW-2008-0357, to (1) EPA online using http://www.regulations.gov (our preferred method), by e-mail to ow-docket@epa.gov, or by mail to: EPA Docket Center, Environmental Protection Agency, Water Docket (28221T), 1200 Pennsylvania Ave., NW. Washington, DC 20460 and (2) OMB at: Office of Information and Regulatory Affairs, Office of Management and Budget (OMB), Attention: Desk Officer for EPA, 725 17th Street, NW., Washington, DC 20503.

FOR FURTHER INFORMATION CONTACT: Lars Wilcut, Standards and Health Protection Division, Office of Science and Technology (4305T), Environmental Protection Agency, 1200 Pennsylvania Ave., NW., Washington, DC 20460; telephone number: (202) 566-0447; fax number: (202) 566-0409; e-mail address: wilcut.lars@epa.gov.

SUPPLEMENTARY INFORMATION: EPA has submitted the following ICR to OMB for review and approval according to the procedures prescribed in 5 CFR 1320.12. On July 8, 2008 (73 FR 39013), EPA sought comments on this ICR pursuant to 5 CFR 1320.8(d). EPA received no comments. Any additional comments on this ICR should be submitted to EPA and OMB within 30 days of this notice.

EPA has established a public docket for this ICR under Docket ID No. EPA-HQ-OW-2008-0357, which is available for public viewing at http://www.regulations.gov, or in-person viewing at the Water Docket in the EPA Docket Center (EPA/DC), EPA West, Room 3334, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426.

Use EPA's electronic docket and comment system at http://www.regulations.gov to submit or view public comments, access the index listing of the contents of the public docket, and to access those documents in the public docket that are available electronically. Once in the system, then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Reporting Requirements for BEACH Act Grants (Renewal).

ICR Numbers: EPA ICR No. 2048.03, OMB Control No. 2040-0244.

ICR Status: This ICR is scheduled to expire on November 30, 2008. Under OMB regulations, the Agency may continue to conduct or sponsor the collection of information while this submission is pending at OMB. An Agency may not conduct of sponsor and a person is not required to respond to, a collection of information, unless it displays a currently valid OMB control number. The OMB control numbers for EPA's regulations in title 40 of the CFR, after appearing in the Federal Register when approved, are listed in 40 CFR part 9, are displayed in the Federal Register or by other appropriate means, such as on the related collection instrument or form, if applicable. The display of OMB control numbers in certain EPA regulations is consolidated in 40 CFR part 9.

Abstract: Congress passed the Beaches Environmental Assessment and Coastal Health (BEACH) Act in October 2000 to amend the Clean Water Act, in part by adding section 406, “Coastal Recreation Water Monitoring and Notification.” Section 406(b) authorizes EPA to make grants to States and local governments to develop and implement programs for monitoring and public notification for coastal recreation waters adjacent to beaches or similar points of access that are used by the public, if the State or local government satisfies the requirements of the BEACH Act.

Several of these requirements require a grant recipient to collect and submit information to EPA as a condition for receiving the grant. Section 406(b) requires a grant recipient to provide the factors that the state or local government uses to prioritize funds and a list of waters for which the grant funds will be used. Section 406(b) also requires that a grant recipient's program be consistent with the performance requirements set by EPA under section 406(a); EPA needs information from the grant recipients to determine if the monitoring and notification programs are consistent with these criteria. On July 19, 2002, EPA published the National Beach Guidance and Required Performance Criteria for Grants (67 FR 47540). Section 406(b) also requires that a grant recipient submit a report to EPA that describes the data collected as part of a monitoring and notification program and the actions taken to notify the public when water quality standards are exceeded. Section 406(c) requires a grant recipient to identify lists of coastal recreation waters, processes for States to delegate to local governments the responsibility for implementing a monitoring and notification program, and the content of the monitoring and notification program.

The information covered by this ICR is required of States and local governments that seek to obtain BEACH Act funding. It allows EPA to properly review State and local governments' monitoring and notification programs to determine if they are eligible for BEACH Act grant funding. This information also enables EPA to fulfill its obligations to make this information available to the public as required by sections 406(e) and (g).

Burden Statement: The annual public reporting and recordkeeping burden for this collection of information is estimated to average 2,374 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Environmental and public health agencies in coastal and Great Lakes states, territories and authorized tribes.

Estimated Number of Respondents: 40.

Frequency of Response: Annual.

Estimated Total Annual Hour Burden: 94,947.

Estimated Total Annual Cost: $11,928,370, includes $3,938,760 annualized capital or O&M costs.

Changes in the Estimates: The annual operation and maintenance costs increased by $188,760. This is because the estimated number of beaches monitored by grant recipients increased from 3,472 (estimated from EPA's 2003 National List of Beaches) to 3,647 (estimated from the 2007 National Beaches Survey), a 5.0% increase.

Dated: November 13, 2008.
John Moses,
Acting Director, Collection Strategies Division.

[FR Doc. E8-27471 Filed 11-18-08; 8:45 am]

BILLING CODE 6560-50-P